DEPARTMENT OF TRANSPORTATION

National Highway Traffic Safety Administration

Announcing the Fourth Quarterly Meeting of the Crash Injury Research and Engineering Network

AGENCY: National Highway Traffic Safety Administration (NHTSA), DOT.

ACTION: Meeting announcement.

SUMMARY: This notice announces the Fourth Quarterly Meeting of members of the Crash Injury Research and Engineering Network. CIREN is a collaborative effort to conduct research on crashes and injuries at nine Level 1 Trauma Centers which are linked by a computer network. Researchers can review data and share expertise, which could lead to a better understanding of crash injury mechanisms and the design of safer vehicles.

DATE AND TIME: The meeting is scheduled from 9 a.m. to 5 p.m. on March 16, 2001.

ADDRESSES: The meeting will be held in Room 6200-04 of the U.S. Department of Transportation Building, which is located at 400 Seventh Street, SW., Washington, DC.

SUPPLEMENTARY INFORMATION: The CIREN System has been established and crash cases have been entered into the database by each Center. NHTSA has held three Annual Conferences where CIREN research results were presented. Further information about the three previous CIREN conferences is available through the NHTSA website at: http://www-nrd.nhtsa.dot.gov/include/bio_and_trauma/ciren-final.htm. NHTSA held the first quarterly meeting on May 5, 2000, with a topic of lower extremity injuries in motor vehicle crashes, the second quarterly meeting on July 21, 2000, with a topic of side impact crashes, and the third quarterly meeting on November 30, 2000, with a topic of thoracic injuries in crashes. Information from the May 5, July 21, and November 30, 2000, meetings are also available through the NHTSA website.

NHTSA plans to continue holding quarterly meetings on a regular basis to disseminate CIREN information to interested parties. This is the fourth such meeting. The topic for this meeting is offset frontal collisions. Subsequent meetings have tentatively been scheduled for June, September, and December 2001. These quarterly meetings will be in lieu of an annual CIREN conference.

FOR FURTHER INFORMATION CONTACT: Mrs. Donna Stemski, Office of Human-Centered Research, 400 Seventh Street, SW., Room 6206, Washington, DC 20590, telephone: (202) 366-5662.

Issued on: February 8, 2001.
Raymond P. Owings,
Associate Administrator for Research and Development, National Highway Traffic Safety Administration.

[FR Doc. 01-3831 Filed 2-14-01; 8:45 am]

BILLING CODE 4910-59-P